DEPARTMENT OF HEALTH AND HUMAN SERVICES

Administration for Children and Families

Expedited OMB Review and Public Comment; Proposed Information Collection Activity; Administration and Oversight of the Unaccompanied Alien Children Program

AGENCY: Office of Refugee Resettlement; Administration for Children and Families; U.S. Department of Health and Human Services.

ACTION: Request for public comment.

SUMMARY: The Office of Refugee Resettlement (ORR), Administration for Children and Families (ACF), U.S. Department of Health and Human Services (HHS), is requesting expedited review of an information collection request from the Office of Management and Budget (OMB) and inviting public comments on the proposed collection. The request consists of several forms that allow the Unaccompanied Alien Children (UAC) Program to monitor care provider facility compliance with federal laws and regulations, legal agreements, and ORR policies and procedures; and perform other administrative tasks.

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION:

Description: ACF is requesting that OMB grant a 180-day approval for this request under procedures for expedited processing. A request for review under normal procedures will be incorporated into the submission under normal procedures.

The components of this information request include:

1. Care Provider Facility Tour Request (Form A-1A): This instrument is used by advocacy groups, faith-based organizations, researchers, government officials, and other stakeholders to request tours of ORR care provider facilities. After the request is received, ORR documents its decision and details regarding date and location of the tour, if applicable, and provides the completed form to the requester. This instrument was previously approved under OMB No. 0970-0498.

2. Notice to UAC for Flores Visits (Forms A-4 & A-4s): This instrument is used by care provider facilities to notify UAC of upcoming visits by Flores counsel (lawyers and volunteers from the organization that originally participated in the creation of the Flores Settlement Agreement) and allow UAC to add their name to a sign-up sheet if they are willing to speak with Flores counsel.

3. Authorization for Release of Records (Form A-5): This instrument is used by attorneys, legal service providers, child advocates, government agencies, and other stakeholders to request UAC case file records. In most cases, requesters are required to obtain the signature of the subject of the record request (UAC or their parent/legal guardian or sponsor) and a witness.

4. Program Level Event (PLE) Report (Form A-9): This instrument is used by ORR care provider programs to inform ORR of events that may affect the entire care provider facility, such as an active shooter or natural disaster. An updated PLE Report is required for events that occur over multiple days or if the situation changes regarding the event.

5. Emergency Significant Incident Report (SIR) and Addendum (Forms A-10A & A-10B): This instrument is used by ORR care provider programs to inform ORR of urgent situations in which there is an immediate threat to a child's safety and well-being that require instantaneous action. In some cases, an Emergency SIR Addendum may be required to provide additional information obtained after the initial report.

6. Significant Incident Report (SIR) and Addendum (Forms A-10C & A-10D): This instrument is used by ORR care provider programs to inform ORR of situations that affect, but do not immediately threaten, the safety and well-being of a child. In some cases, an SIR Addendum may be required to provide additional information obtained after the initial report.

7. Sexual Abuse Significant Incident Report (SA/SIR) and Addendum (Forms A-10E & A-10F): This instrument is used by ORR care provider programs to inform ORR of allegations of sexual harassment, sexual abuse, and inappropriate sexual behavior. In some cases, an SA/SIR Addendum may be required to provide additional information obtained after the initial report.

8. UAC Satisfaction Survey (Forms A-11 & A-11s): This instrument is used by ORR care provider programs to collect information from UAC regarding their experience while in ORR custody.

9. UAC Satisfaction Survey Aggregate Data: This instrument is used by ORR care provider programs to report aggregate data from UAC Satisfaction Survey forms submitted to ORR on a quarterly and annual basis. ORR uses this information to identify areas where it can make programmatic improvements.

10. Hotline Alert (A-12): This instrument is used by ORR's National Call Center to inform ORR of allegations sexual harassment, sexual abuse, inappropriate sexual behavior, and physical abuse that occurred while the UAC was in ORR custody.

Respondents: ORR grantee and contractor staff; advocacy groups, faith-based organizations, researchers, and government officials; attorneys, legal service providers, child advocates, and government agencies; and other stakeholders.

Annual Burden Estimates
Instrument | Total number of respondents | Annual number of responses per respondent | Average burden minutes per response | Annual burden minutes
Care Provider Facility Tour Request (Form A-1A) | 200 | 1 | 10 | 2,000
Notice to UAC for Flores Visits (Forms A-4 & A-4s) | 20 | 1 | 15 | 300
Authorization for Release of Records (Form A-5) | 4,000 | 1 | 10 | 40,000
Program Level Event Report (Form A-9) | 1,500 | 1 | 20 | 30,000
Emergency Significant Incident Report (Form A-10A) | 1,640 | 1 | 20 | 32,800
Emergency Significant Incident Report Addendum (Form A-10B) | 1,360 | 1 | 15 | 20,400
Significant Incident Report (Form A-10C) | 80,340 | 1 | 20 | 1,606,800
Significant Incident Report Addendum (Form A-10D) | 25,630 | 1 | 15 | 384,450
Sexual Abuse Significant Incident Report (Form A-10E) | 5,980 | 1 | 20 | 119,600
Sexual Abuse Significant Incident Report Addendum (Form A-10F) | 4,190 | 1 | 15 | 62,850
UAC Satisfaction Survey (Form A-11 & A-11s) | 72,840 | 1 | 20 | 1,456,800
UAC Satisfaction Survey Aggregate Data | 235 | 4 | 240 | 225,600
Hotline Alert (Form A-12) | 80 | 1 | 15 | 1,200

Estimated Annual Burden Total: 3,982,800.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Authority: 6 U.S.C. 279; 8 U.S.C. 1232; Flores v. Reno Settlement Agreement, No. CV85-4544-RJK (C.D. Cal. 1996).

Mary B. Jones,
ACF/OPRE Certifying Officer.

[FR Doc. 2020-07995 Filed 4-15-20; 8:45 am]

BILLING CODE 4184-45-P